DEPARTMENT OF COMMERCE

National Oceanic and Atmospheric Administration

[Docket Number: 080513661-8662-01]

The Draft Report of the NOAA Science Advisory Board Working Group To Examine Advisory Options for Improving Communications Among NOAA's Partners

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability for public comment of the draft report of the SAB Working Group to Examine Advisory Options for Improving Communications among NOAA's Partners (here called the Partnerships Working Group).

DATES: Comments on this preliminary report must be received by 5 p.m. EDT June 20, 2008.

ADDRESSES: The Draft Report of the Working Group will be available on the NOAA Science Advisory Board Web site at http://www.sab.noaa.gov/Reports/.

The public is encouraged to submit comments electronically to noaa.sab.comments2@noaa.gov. For individuals who do not have access to the Internet, comments may be submitted in writing to: NOAA Science Advisory Board (SAB) c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-734-1459, E-mail: Cynthia.Decker@noaa.gov) during normal business hours of 9 a.m. to 5 p.m. Eastern Time, Monday through Friday, or visit the NOAA SAB Web site at http://www.sab.noaa.gov.

SUPPLEMENTARY INFORMATION: The preliminary report of the Partnerships Working Group has been drafted pursuant to the request initiated by the NOAA Science Advisory Board and approved by the Under Secretary of Commerce for Oceans and Atmosphere, to examine advisory options for improving communications among the various public, private, and academic entities engaged in environmental information matters. The Terms of Reference for the Working Group can be found on the SAB Web site at http://www.sab.noaa.gov/Working_Groups/current/partnerships/PWG_terms.pdf.

This report was prepared in response to the charge to the working group to examine advisory options including: Expanded use of existing NOAA Federal Advisory Committee Act (FACA) committees and/or the National Research Council; changing the structure and/or re-chartering the existing NOAA FACA committees, including the SAB, into new FACA committees or some combinations of approaches. With input from the appropriate offices in NOAA and the Department of Commerce, the PWG members debated the various options available, ranging from ad hoc meetings at various venues on an irregular basis to establishment of a formal federal advisory committee to NOAA. The group considered the strengths and weaknesses of all these options but agreed that NOAA should create a formal and clear mechanism to ensure that a wide variety of external stakeholders can provide advice and receive feedback from the agency. The PWG recommended that NOAA use a combination of approaches, starting with establishment of a Working Group under the Science Advisory Board to immediately address concerns from the external weather community, assess the success of this approach after 1-2 years, and consider at that time whether to establish a separate federal advisory committee with a mandate for the broader environmental services enterprise. The terms of reference for the proposed standing Working Group are included in the appendix of the report.

The Working Group will consider public comments on the draft report and incorporate them, as appropriate, in the final report to be delivered to the SAB.

The SAB is chartered under the Federal Advisory Committee Act and is the only Federal Advisory Committee with the responsibility to advise the Under Secretary on long- and short-term strategies for research, education, and application of science to resource management and environmental assessment and prediction.

The SAB welcomes all comments on the content of the preliminary report. We also request comments on any inconsistencies perceived within the report, and possible omissions of important topics or issues. This draft report is being issued for comment only and is not intended for interim use. For any shortcoming noted within the preliminary report, please propose specific remedies. Suggested changes will be incorporated where appropriate, and a final report will be posted on the SAB Web site.

Please follow these instructions for preparing and submitting comments. Using the format guidance described below will facilitate the processing of comments and assure that all comments are appropriately considered. Overview comments should be provided first and should be numbered. Comments that are specific to particular pages, paragraphs or lines of the section should follow any overview comments and should identify the page and line numbers to which they apply. Please number each page of your comments.

Dated: May 14, 2008.
Mark E. Brown,
Chief Financial Officer, Office of Oceanic and Atmospheric Research, National Oceanic and Atmospheric Administration.

[FR Doc. E8-11145 Filed 5-20-08; 8:45 am]

BILLING CODE 3510-KD-P